FEDERAL COMMUNICATIONS COMMISSION

47 CFR Part 73

[DA 01-1907; MM Docket No. 01-188, RM-10203; MM Docket No. 01-189, RM-10204; MM Docket No. 01-190, RM-10210; and MM Docket No. 01-191, RM-10211]

Radio Broadcasting Services; Evant, TX; Winnsboro, TX; Comanche, TX; and Clayton, OK

AGENCY: Federal Communications Commission.

ACTION: Proposed rule.

SUMMARY: This document proposes four allotments. The Commission requests comment on a petition filed by Charles Crawford proposing the allotment of Channel 243A at Evant, Texas, as the community's first local aural transmission service. Channel 243A can be allotted to Evant in compliance with the Commission's minimum distance separation requirements with a site restriction of 0.8 km (0.5 miles) east of Evant. The coordinates for Channel 243A at Evant are 31-28-56 North Latitude and 98-09-19 West Longitude. The Commission requests comment on a petition filed by Katherine Pyeatt proposing the allotment of Channel 263A at Winnsboro, Texas, as the community's first local competing FM transmission service. Channel 263A can be allotted to Winnsboro in compliance with the Commission's minimum distance separation requirements with a site restriction of 7.9 km (4.9 miles) east of Winnsboro. The coordinates for Channel 263A at Winnsboro are 32-56-40 North Latitude and 95-12-27 West Longitude.

The Commission further requests comment on a petition filed by Jeraldine Anderson proposing the allotment of Channel 280A at Comanche, Texas, as the community's first local competing FM transmission service. Channel 280A can be allotted to Comanche at center city coordinates in compliance with the Commission's minimum distance separation requirements, with no site restriction. The coordinates for Channel 280A at Comanche are 31-53-50 North Latitude and 98-36-12 West Longitude.

The Commission requests comment on a petition filed by Maurice Salsa proposing the allotment of Channel 232C3 at Clayton, Oklahoma, as the community's first local aural transmission service. Channel 232C3 can be allotted to Clayton at center city coordinates in compliance with the Commission's minimum distance separation requirements, with no site restriction. The coordinates for Channel 232C3 at Clayton are 34-35-22 North Latitude and 95-21-09 West Longitude.

DATES: Comments must be filed on or before October 1, 2001, and reply comments on or before October 16, 2001.

ADDRESSES: Federal Communications Commission, Washington, DC 20554. In addition to filing comments with the FCC, interested parties should serve the petitioner, his or her counsel, or consultant, as follows: Charles Crawford, 4553 Bordeaux Avenue, Dallas, TX 75205; Katherine Pyeatt, 6655 Aintree Circle, Dallas, TX 75214; Jeraldine Anderson, 1702 Cypress Drive, Irving, TX 75061; and Maurice Salsa, 5615 Evergreen Valley Drive, Kingwood, TX 77345.

FOR FURTHER INFORMATION CONTACT: Deborah A. Dupont, Mass Media Bureau (202) 418-7072.

SUPPLEMENTARY INFORMATION: This is a synopsis of the Commission's Notice of Proposed Rule Making, MM Docket Nos. 01-188, 01-189, 01-190, and 01-191, adopted August 1, 2001, and released August 10, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Channel 280A at Comanche, adding Evant, Channel 243A, and adding Channel 263A at Winnsboro.

3. Section 73.202(b), the Table of FM Allotments under Oklahoma, is amended by adding Clayton, Channel 232C3.

Federal Communications Commission.
John A. Karousos,
Chief, Allocations Branch, Policy and Rules Division, Mass Media Bureau.

[FR Doc. 01-21413 Filed 8-23-01; 8:45 am]

BILLING CODE 6712-01-P